ENVIRONMENTAL PROTECTION AGENCY

[FRL-7851-7]

Revised Guidance on Procedures for Submission and Review of CERCLA Section 106(b) Reimbursement Petitions

AGENCY: Environmental Protection Agency (EPA).

ACTION: Notice of availability of revised guidance document.

SUMMARY: Section 106(b)(2) of the Comprehensive Environmental Response, Compensation, and Liability Act of 1980 (CERCLA), 42 U.S.C. 9606(b)(2), as amended by the Superfund Amendments and Reauthorization Act of 1986 (SARA), allows any person who has complied with an administrative order issued under section 106(a) of CERCLA to petition for reimbursement of the reasonable costs incurred in complying with the order, plus interest. To establish a claim for reimbursement, a petitioner must demonstrate that it was not liable for response costs under CERCLA section 107(a), or that EPA's selection of the ordered response action was arbitrary and capricious or was otherwise not in accordance with law. The authority to decide whether to grant such petitions has been delegated by the President to the EPA Administrator, and redelegated to EPA's Environmental Appeals Board (EAB) under EPA Delegation of Authority CERCLA 14-27 (June 1994).

The EAB issued procedural guidance (CERCLA Guidance) regarding the procedures for submission and review of petitions for reimbursement in June 1994. Based on its experience with reimbursement petitions after June 1994, the EAB issued revised CERCLA Guidance on October 9, 1996. The EAB issued a further revised version of its CERCLA Guidance on November 10, 2004. This Notice informs the general public of the availability of the November 10, 2004 revised CERCLA Guidance. The full text of the revised CERCLA Guidance is available on the EAB's Web site, http://www.epa.gov/eab, by clicking on “EAB Guidance Documents.” Copies of the document can also be obtained by calling Eurika Durr, Clerk of the Board, at the telephone number and e-mail address noted below.

FOR FURTHER INFORMATION CONTACT: For further information or for copies of the November 10, 2004 revised CERCLA Guidance, contact Eurika Durr, Clerk of the Board. Telephone number: (202) 233-0122. E-mail: Durr.Eurika@epa.gov.

Dated: December 14, 2004.
Kathie A. Stein,
Environmental Appeals Judge.

[FR Doc. 04-27996 Filed 12-21-04; 8:45 am]

BILLING CODE 6560-50-P